DEPARTMENT OF HOUSING AND URBAN DEVELOPMENT

[Docket No. FR-7015-N-08]

60-Day Notice of Proposed Information Collection: Family Report, MTW Family Report, MTW Expansion Family Report

AGENCY: Office of the Assistant Secretary for Public and Indian Housing, HUD.

ACTION: Notice.

SUMMARY: HUD is seeking approval from the Office of Management and Budget (OMB) for the information collection described below. In accordance with the Paperwork Reduction Act, HUD is requesting comment from all interested parties on the proposed collection of information. The purpose of this notice is to allow for 60 days of public comment.

DATES: Comments Due Date: October 18, 2019.

ADDRESSES: Interested persons are invited to submit comments regarding this proposal. Comments should refer to the proposal by name and/or OMB Control Number and should be sent to: Colette Pollard, Reports Management Officer, QDAM, Department of Housing and Urban Development, 451 7th Street SW, Room 4176, Washington, DC 20410-5000; telephone 202-402-3400 (this is not a toll-free number) or email at Colette.Pollard@hud.gov for a copy of the proposed forms or other available information. Persons with hearing or speech impairments may access this number through TTY by calling the toll-free Federal Relay Service at (800) 877-8339.

FOR FURTHER INFORMATION CONTACT: Arlette Mussington, Office of Policy, Programs and Legislative Initiatives, PIH, Department of Housing and Urban Development, 451 7th Street SW, Room 3178, Washington, DC 20410; telephone 202-402-4109, (this is not a toll-free number). Persons with hearing or speech impairments may access this number via TTY by calling the Federal Information Relay Service at (800) 877-8339. Copies of available documents submitted to OMB may be obtained from Ms. Mussington.

SUPPLEMENTARY INFORMATION: This notice informs the public that HUD is seeking approval from OMB for the information collection described in Section A.

A. Overview of Information Collection

Title of Information Collection: Family Report, MTW Family Report, MTW Expansion Family Report.

OMB Approval Number: 2577-0083.

Type of Request: Revision of a currently approved collection.

Form Number: Form HUD-50058 Family Report, HUD-50058 MTW Family Report, Form HUD-50058 MTW Expansion Family Report.

Description of the need for the information and proposed use: The Office of Public and Indian Housing of the Department of Housing and Urban Development (HUD) provides funding to public housing agencies (PHAs) to administer assisted housing programs. Form HUD-50058, Form HUD-50058 MTW, and Form HUD-50058 MTW Expansion Family Reports solicit demographic, family profile, income and housing information on the entire nationwide population of tenants residing in assisted housing. The information collected through the Form HUD-50058 will be used to monitor and evaluate the Public Housing, Section 8 Housing Choice Voucher, Section 8 Project-Based Vouchers, and Section 8 Moderate Rehabilitation programs. The information collected through the Form HUD-50058 MTW will be used to monitor and evaluate current MTW PHAs participating in the Moving to Work (MTW) Demonstration program which includes Public Housing, Section 8 Housing Choice Voucher, Section 8 Project-Based Vouchers, and Moving to Work (MTW) Demonstration programs. The information collected through the Form HUD-50058 MTW Expansion will be used to monitor and evaluate the expansion MTW PHAs (PHAs designated as MTW pursuant to the 2016 Expansion Statute) that are participating in the MTW Demonstration program, which includes Public Housing, Section 8 Housing Choice Voucher, Section 8 Project-Based Vouchers, Local Non-Traditional Property-Based, and Local, Non-Traditional Tenant-Based programs.

Tenant data is collected to understand demographic, family profile, income, and housing information for participants in the Public Housing, Section 8 Housing Choice Voucher, Section 8 Project Based Certificate, Section 8 Moderate Rehabilitation, and MTW Demonstration programs. This data also allows HUD to monitor the performance of programs and the performance of public housing agencies that administer the programs.

Reason for PRA

No changes have been made to the Forms HUD-50058 Family Report and HUD-50058 MTW Family Report. HUD is seeking comments for the new Form HUD-50058 MTW Expansion, which is a derivative of the HUD-50058 and HUD-50058 MTW, to collect data from the MTW expansion PHAs. As with the HUD-50058 and HUD-50058 MTW, this data will be used to understand demographic, family profile, income, and housing information. It will also be used to evaluate the MTW expansion agencies, as required by statute, according to the specific evaluation criteria set forth for each cohort that PHAs are being admitted to the MTW program.

Most of the data elements on the Form HUD-50058 MTW Expansion are from the HUD-50058 and HUD-50058 MTW and are being utilized with no changes. There are some data elements, however, that have been changed, removed, or added from their original content to meet the needs of the MTW expansion data collection and evaluation. Those items are outlined below. The items noted below are only applicable to MTW expansion PHAs submitting the Form HUD-50058 MTW Expansion.

Line Additions

• Line 1h, Unit Real Estate ID Number: This is for the unique identifier that each unit will be assigned in the PIC system so that units can be identified and tracked even if they change programs (i.e., through a RAD conversion a public housing unit becomes a project-based voucher unit).

• Line 2w, End of participation reasons: This data will assist PHAs and HUD determine and track the reasons why families are ending participation in the PHA's program if the PHA is submitting an End of Participation action type.

• Line 8u, Total allowances determined by PHA: PHAs utilizing waivers outlined in the MTW Operations Notice should use this line to report the total amount of allowances that will later be used in the calculation of the family's adjusted annual income. This line will also be used when a family is a participant in the for Local, Non-Traditional Property-Based or Local, Non-Traditional Tenant-Based programs. This line was added since line 8x, Total allowances, cannot be used in these instances.

• Line 10v, Date over-income family exceeded the two-year grace period: Added to capture the date an over-income family exceeded the two-year grace period outlined in Housing Opportunity Through Modernization Act of 2016 (HOTMA) and related guidance and must begin paying over-income rent. This is added to assist PHAs in tracking this information for each family.

• Line 10w, Alternate tenant rent: PHAs will use this line to record the amount of rent paid by a family if one of the alternate types of rent is selected in line 10u, Type of rent selected.

• Lines 11u and 11ap, MTW specific alternate rent type: Will be used to indicate the MTW specific alternate rent type the family's rent is determined by if the family's rent is not calculated using the standard rent calculation detailed on the form. Can be used for the Local, Non-Traditional Property-Based program if one of these alternate rent types is applicable. Line 11ap is only for used for prorated assistance for mixed families is used in conjunction with line 11aq.

• Lines 11v and 11aq, Alternate tenant rent: PHAs will use this line to record the amount of rent paid by a family member if one of the alternate rent types is selected in line 11u, MTW specific alternate rent type, or if the family is participating in the for the Local, Non-Traditional Property-Based program. Line 11aq is only for used for prorated assistance for mixed families is used in conjunction with line 11ap.

• Lines 12x and 12ak, MTW specific alternate rent type: Will be used to indicate the MTW specific alternate rent type the family's rent is determined by if the family's rent is not calculated using the standard rent calculation detailed on the form. Can be used for the Local, Non-Traditional Tenant-Based program if one of these alternate rent types is applicable. Line 12ak is only for used for prorated assistance for mixed families and is used in conjunction with line 12am.

• Lines 12y and 12am, Alternate tenant rent: PHAs will use this line to record the amount of rent paid by a family member if one of the alternate rent types is selected in line 12x, MTW specific alternate rent type, or if the family is participating in the for the Local, Non-Traditional Tenant-Based program. Line 12am is only for used for prorated assistance for mixed families is used in conjunction with line 12ak.

• Lines 17p through 17r, MTW Self-Sufficiency Program section: These lines allow PHAs to report MTW self-sufficiency participation data and remain unchanged from the HUD-50058 MTW.

Line Changes and Removals

• Line 1c, Program: Utilized the program type codes from the HUD-50058 MTW with the exceptions listed below. These program codes are more specific than the HUD-50058 program codes and allow for differentiation of tenant-based and project-based assistance, which are both under the VO (Voucher) code on the HUD-50058.

○ Local, Non-Traditional Homeownership is not applicable in the MTW expansion.

○ Clarified that Local, Non-Traditional Assistance is tenant-based.

○ Added Local, Non-Traditional Property-Based so that tenant-based and property or project-based assistance can be easily determined.

• Line 2a, Type of action: Removed the selection for Historical Adjustment. Due to improvements in PIC, PHAs should no longer need to utilize this action type. This action type was originally meant to assist in capturing data that would serve as a baseline for a household when there was no data in PIC after the initial migration to PIC.

• Line 2m, Special program: Removed the selection for Welfare to Work Voucher since this program no longer exists.

• Line 2v, MTW self-sufficiency program participation now or in last year: This line was on the HUD-50058 MTW as line 2m. Line 2m is already in use on the HUD-50058 so assigned the next available line number.

• Line 3g, Gender: The title of this line was changed from “Sex” to “Gender” and an additional response code was added. Many PHAs have requested a response of “X” be allowed due to many localities issuing gender neutral identification cards.

• Line 4f, Is there a HUD approved income targeting disregard: This line was removed since it was only applicable to the Welfare to Work (WtW) program.

• Line 8x, Total allowances: This line reflects that it is to be used if the new line 8u, Total allowances determined by PHA, is not be used and that it is not used for the two Local, Non-Traditional programs.

• Line 8y, adjusted annual income: This line reflects the addition of line 8u, Total allowances determined by PHA, in the calculation of the adjusted annual income.

• Line 10c, Income based ceiling rent: This line was removed since ceiling rents are no longer used.

• Line 10u, Type of rent selected: A section for alternate rent types has been added and includes six selections. All of the selections except “Over-income rent” are specific to the MTW program. Over-income rent was added to allow PHAs to indicate if a family has exceeded the over-income limit for two consecutive years and is subject to higher rent.

• Line 11d, Did family move into your PHA jurisdiction under portability, line 11e, Cost billed per month, and line 11f, PHA code billed: These lines were removed. Per 24 CFR 983.261 the family may request to move under portability, but must first receive a tenant-based voucher. PHAs must change the voucher type on the 50058 submission to reflect this prior to submitting a Portability Move-out action type.

• Line 17a, Participate in special programs: The reference to Welfare to Work Voucher was removed and replaced by MTW self-sufficiency. This will allow PHAs to indicate if the household is a participant in one or both programs.

• Line 17e, MTW self-sufficiency report category, line 17f, MTW self-sufficiency effective date, and 17g, PHA code of PHA administering MTW self-sufficiency contract: These items are unchanged from the HUD-50058 MTW and replaced the Welfare to Work (WtW) content on these lines.

• Line 17i, FSS family services table: Clarified that this table is to only be used for FSS participants.

• Line 17n, MTW self-sufficiency Contract Information: This replaces the Welfare to Work (WtW) program information line.

Many of the PIC system validations (errors) for Sections 8 through 15 of the form, which deal with allowances and rent calculation, will either be relaxed from fatal errors to warnings or may be relaxed completely. A full list of system validations and Technical Reference Guide will be published at a later date. Additional information on the MTW expansion can be found on the MTW website at https://www.hud.gov/mtw.

Respondents (i.e., affected public): Public Housing Agencies, State and local governments, individuals and households.

Information collection | Number of respondents (PHA) (with responses) | * Average number of reponses per respondent (with responses) | Total annual responses | Minutes per response | Total hours | Regulatory reference (24 CFR) * see attached
Form HUD-50058, New Admission | 4,014 | 87 | 349,218 | 40 | 232,812 | 908.101
Form HUD-50058, Recertification | 4,014 | 583 | 2,340,162 | 20 | 780,054 | 908.101
Form HUD-50058, MTW, New Admission | 39 | 529 | 20,631 | 40 | 13,754 | 908.101
Form HUD-50058, Recertification, MTW | 39 | 4,018 | 156,702 | 20 | 52,234 | 908.101
Form HUD-50058, MTW Expansion, New Admission | 100 | 87 | 8,700 | 40 | 5,800 | 908.101
Form HUD-50058, Recertification, MTW Expansion | 100 | 583 | 58,300 | 20 | 19,433 | 908.101
Totals | 4,153 |  | 2,933,713 |  | 1,104,087 |
* Average Number of Responses per Respondents = Total Annual Responses/Number of Respondents.
Estimated annualized hourly cost to respondents (PHA); Form HUD-50058: To report using Form HUD-50058 Family Report, it will cost the average PHA $1,015.00 annually to enter and submit all data for New Admission and $3,400.83 annually for Recertification.
Estimated annualized hourly cost to respondents (PHA); Form HUD-50058 MTW: To report using Form HUD-50058 Family Report, it will cost the average PHA $6,171.67 annually to enter and submit all data for New Admissions and $23,438.33 annually for Recertification.
Estimated annualized hourly cost to respondents (PHA); Form HUD-50058 MTW Expansion: To report using Form HUD-50058 Family Report, it will cost the average PHA $1,015.00 annually to enter and submit all data for New Admissions and $3,400.78 annually for Recertification.

B. Solicitation of Public Comment

This notice is soliciting comments from members of the public and affected parties concerning the collection of information described in Section A on the following:

(1) Whether the proposed collection of information is necessary for the proper performance of the functions of the agency, including whether the information will have practical utility;

(2) The accuracy of the agency's estimate of the burden of the proposed collection of information;

(3) Ways to enhance the quality, utility, and clarity of the information to be collected; and

(4) Ways to minimize the burden of the collection of information on those who are to respond; including through the use of appropriate automated collection techniques or other forms of information technology, e.g., permitting electronic submission of responses.

HUD encourages interested parties to submit comment in response to these questions.

C. Authority

Section 3507 of the Paperwork Reduction Act of 1995, 44 U.S.C. chapter 35.

Dated: August 8, 2019.
Merrie Nichols-Dixon,
Director, Office of Policy, Programs and Legislative Initiatives.

[FR Doc. 2019-17835 Filed 8-16-19; 8:45 am]

BILLING CODE 4210-67-P